DEPARTMENT OF ENERGY

Federal Energy Regulatory Commission

Combined Notice of Filings #1

Take notice that the Commission received the following electric corporate filings:

Docket Numbers: EC12-86-000.

Applicants: PacifiCorp.

Description: Amendment to Application of PacifiCorp.

Filed Date: 6/15/12.

Accession Number: 20120615-5170.

Comments Due: 5 p.m. ET 6/25/12.

Docket Numbers: EC12-111-000.

Applicants: Rocky Mountain Power, LLC, San Joaquin Cogen, LLC.

Description: Application for Authorization for Disposition of Jurisdictional Facilities and Request for Expedited Action of Rocky Mountain Power, LLC, et al.

Filed Date: 6/15/12.

Accession Number: 20120615-5112.

Comments Due: 5 p.m. ET 7/6/12.

Docket Numbers: EC12-112-000.

Applicants: High Majestic Wind II, LLC, High Majestic Interconnection Services, LLC.

Description: FPA Section 203 Application of High Majestic Wind II, LLC and High Majestic Interconnection Services, LLC.

Filed Date: 6/15/12.

Accession Number: 20120615-5175.

Comments Due: 5 p.m. ET 7/6/12.

Take notice that the Commission received the following electric rate filings:

Docket Numbers: ER12-2047-000.

Applicants: NorthWestern Corporation.

Description: Service Agreement No. 277—Ravalli County Electric Cooperative, Inc. to be effective 6/14/2012.

Filed Date: 6/15/12.

Accession Number: 20120615-5002.

Comments Due: 5 p.m. ET 7/6/12.

Docket Numbers: ER12-2048-000.

Applicants: PJM Interconnection, L.L.C.

Description: Original Service Agreement No. 3330; Queue No. X1-095 to be effective 6/6/2012.

Filed Date: 6/15/12.

Accession Number: 20120615-5051.

Comments Due: 5 p.m. ET 7/6/12.

Docket Numbers: ER12-2049-000.

Applicants: PJM Interconnection, L.L.C.

Description: Original Service Agreement No. 3329; Queue No. X1-049 to be effective 6/6/2012.

Filed Date: 6/15/12.

Accession Number: 20120615-5062.

Comments Due: 5 p.m. ET 7/6/12.

Docket Numbers: ER12-2050-000.

Applicants: PJM Interconnection, L.L.C.

Description: Original Service Agreement No. 3331; Queue No. X1-100 to be effective 6/6/2012.

Filed Date: 6/15/12.

Accession Number: 20120615-5070.

Comments Due: 5 p.m. ET 7/6/12.

Docket Numbers: ER12-2051-000.

Applicants: SPS Alpaugh 50, LLC.

Description: Application for Market-Based Rate Authority (Re-File) to be effective 8/14/2012.

Filed Date: 6/15/12.

Accession Number: 20120615-5074.

Comments Due: 5 p.m. ET 7/6/12.

Docket Numbers: ER12-2052-000.

Applicants: SPS Alpaugh North, LLC.

Description: Application for Market-Based Rate Authority (Re-File) to be effective 8/14/2012.

Filed Date: 6/15/12.

Accession Number: 20120615-5075.

Comments Due: 5 p.m. ET 7/6/12.

Docket Numbers: ER12-2053-000.

Applicants: Southern California Edison Company.

Description: Amended and New Connection Agmts to the El Dorado System with LADWP, NPC, and SRP to be effective 6/16/2012.

Filed Date: 6/15/12.

Accession Number: 20120615-5092.

Comments Due: 5 p.m. ET 7/6/12.

Docket Numbers: ER12-2054-000.

Applicants: Southwest Power Pool, Inc.

Description: 2432 TPW Madison, LLC GIA to be effective 5/18/2012.

Filed Date: 6/15/12.

Accession Number: 20120615-5119.

Comments Due: 5 p.m. ET 7/6/12.

Docket Numbers: ER12-2055-000.

Applicants: San Gorgonio Farms, Inc.

Description: FERC Electric Tariff Volume No. 1 to be effective 6/15/2012.

Filed Date: 6/15/12.

Accession Number: 20120615-5124.

Comments Due: 5 p.m. ET 7/6/12.

Docket Numbers: ER12-2056-000.

Applicants: Avista Corporation.

Description: Avista Grant Interconnect and Operating Agreement to be effective 6/18/2012.

Filed Date: 6/15/12.

Accession Number: 20120615-5140.

Comments Due: 5 p.m. ET 7/6/12.

Take notice that the Commission received the following electric securities filings:

Docket Numbers: ES12-45-000.

Applicants: Golden Spread Electric Cooperative, Inc.

Description: Application of Golden Spread Electric Cooperative, Inc. for Authorization to Issue Securities Pursuant to Section 204 of the Federal Power Act.

Filed Date: 6/15/12.

Accession Number: 20120615-5180.

Comments Due: 5 p.m. ET 7/6/12.

Take notice that the Commission received the following qualifying facility filings:

Docket Numbers: QF12-413-000.

Applicants: Houweling Nurseries Oxnard, Inc.

Description: Houweling Nurseries Oxnard, Inc. submits FERC Form 556 Notice of Certification of Qualifying Facility Status for a Small Power Production or Cogeneration Facility.

Filed Date: 06/15/2012.

Accession Number: 20120615-5178.

Comments Due: None Applicable.

Take notice that the Commission received the following PURPA 210(m)(3) filings:

Docket Numbers: QM12-4-000.

Applicants: Public Service Company of New Mexico.

Description: Application of Public Service Company of New Mexico for Relief from Mandatory Purchase Obligation.

Filed Date: 6/15/12.

Accession Number: 20120615-5179.

Comments Due: 5 p.m. ET 7/13/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 18, 2012.
Nathaniel J. Davis, Sr.,
Deputy Secretary.

[FR Doc. 2012-15403 Filed 6-22-12; 8:45 am]

BILLING CODE 6717-01-P